DEPARTMENT OF AGRICULTURE

Commodity Credit Corporation

Notice of Intent To Prepare an Environmental Impact Statement for the Biomass Crop Assistance Program

AGENCY: Commodity Credit Corporation, USDA.

ACTION: Notice and request for comments.

SUMMARY: The Commodity Credit Corporation (CCC) intends to prepare an Environmental Impact Statement (EIS) for the Biomass Crop Assistance Program (BCAP). BCAP is a new program authorized by the Food, Conservation, and Energy Act of 2008 (the 2008 Farm Bill). The EIS will assess the potential environmental impacts of alternatives for administration and implementation of BCAP. BCAP is a CCC program administered by the Farm Service Agency (FSA) with the support of other Federal and local agencies. As part of the EIS process, CCC is now soliciting input about potential alternatives for program implementation as well as potential environmental concerns associated with program implementation. CCC will develop and analyze a range of BCAP implementation alternatives. This Notice of Intent (NOI) informs the public of CCC's intent to solicit public comment on potential program alternatives and environmental concerns.

DATES: FSA, on behalf of CCC, invites comments on alternatives and environmental concerns related to BCAP. Submit comments by close of business on October 31, 2008, to ensure full consideration. We will consider comments submitted after this date, to the extent possible.

ADDRESSES: We invite you to submit comments on alternatives and environmental concerns related to BCAP. In your comments, include the volume, date, and page number of this issue of the Federal Register. You may submit comments by any of the following methods:

• Federal eRulemaking Portal: Go to http://www.regulations.gov. Follow the online instructions for submitting comments.

• E-Mail: Matthew.Ponish@wdc.usda.gov.

• Fax: (202) 720-4619.

• Mail: Matthew T. Ponish, National Environmental Compliance Manager, USDA, FSA, CEPD, Stop 0513, 1400 Independence Ave., SW., Washington, DC 20250-0513.

• Hand Delivery or Courier: Deliver comments to the above address.

Comments may be inspected in the Office of the Director, CEPD, FSA, USDA, Room 4709 South Building, Washington, DC, between 8 a.m. and 4:30 p.m., Monday through Friday, except holidays. A copy of this notice is available through the FSA home page at http://www.fsa.usda.gov.

FOR FURTHER INFORMATION CONTACT: Matthew T. Ponish, (202) 720-6853. Persons with disabilities who require alternative means for communication (Braille, large print, audio tape, etc.) should contact the USDA Target Center at (202) 720-2600 (voice and TDD).

SUPPLEMENTARY INFORMATION: BCAP is authorized by section 9001 of the 2008 Farm Bill (Pub. L. 110-246); the 2008 Farm Bill amended Title IX (Section 9011) of the Farm Security and Rural Investment Act of 2002 (Pub. L. 107-171, commonly known as the 2002 Farm Bill). BCAP is intended to support the establishment and production of crops for conversion to bio-energy in project areas (locations) and to assist with collection, harvest, storage, and transportation of eligible material for use in a biomass conversion facility.

As a new energy program, BCAP presents an opportunity to encourage landowners and operators to produce biomass for commercial energy production in ways that both are economically and environmentally sound. CCC plans to implement BCAP by approving the best-qualifying project proposals from project sponsors and then entering into contracts with individual producers in the approved project locations.

Under the National Environmental Policy Act (NEPA), the EIS process provides a means for the public to provide input on implementation alternatives and on environmental concerns. This notice informs the public of CCC's intention to prepare an EIS for BCAP.

Signed in Washington, DC, on September 24, 2008.
Glen L. Keppy,
Executive Vice President, Commodity Credit Corporation.

[FR Doc. E8-22990 Filed 9-30-08; 8:45 am]

BILLING CODE 3410-05-P